SECURITIES AND EXCHANGE COMMISSION

Sunshine Act Meeting

TIME AND DATE: Notice is hereby given, pursuant to the provisions of the Government in the Sunshine Act, Public Law 94-409, that the Securities and Exchange Commission staff will hold a Municipal Securities Disclosure Conference on Thursday, December 6, 2018, beginning at 9:30 a.m. ET.

PLACE: The meeting will be held in the Auditorium, Room L-002, at the Commission's headquarters, 100 F Street NE, Washington, DC 20549.

STATUS: The conference will begin at 9:30 a.m. ET and will be open to the public. Seating will be on a first-come, first-served basis. Doors will open at 8:00 a.m. Visitors will be subject to security checks. The conference will be webcast on the Commission's website at www.sec.gov.

MATTERS TO BE CONSIDERED: The agenda for the conference will include topics related to municipal securities disclosure. Panelists will include industry experts, regulators and issuers. Panelists will be discussing topics such as financial distress and municipal securities disclosure, lessons from municipal disclosure enforcement cases, developments in disclosure technology and the future of municipal securities disclosure. This Sunshine Act notice is being issued because a majority of the Commission may attend the conference.

CONTACT PERSON FOR MORE INFORMATION: For further information, please contact Brent J. Fields from the Office of the Secretary at (202) 551-5400.

Dated: November 29, 2018.
Brent J. Fields,
Secretary.

[FR Doc. 2018-26401 Filed 11-30-18; 11:15 am]

BILLING CODE 8011-01-P